DEPARTMENT OF THE TREASURY

Internal Revenue Service

26 CFR Parts 1 and 53

[REG-106499-12]

RIN 1545-BL30

Community Health Needs Assessments for Charitable Hospitals; Correction

Correction

In proposed rule document 2013-12013, appearing on pages 29628-29629 in the issue of Tuesday, May 21, 2013, make the following correction:

This document inadvertently appeared in the “Rules and Regulations” section of the Federal Register and should have appeared in the “Proposed Rules” section.

[FR Doc. C1-2013-12013 Filed 5-23-13; 8:45 am]

BILLING CODE 1505-01-D